DEPARTMENT OF TRANSPORTATION

Office of the Secretary

Notice of Applications for Certificates of Public Convenience and Necessity and Foreign Air Carrier Permits Filed Under Subpart B (Formerly Subpart Q) During the Week Ending December 3, 2011

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2001-11158.

Date Filed: December 2, 2011.

Due Date for Answers, Conforming Applications, or Motion to Modify Scope: December 23, 2011.

Description: Application of WestJet requesting renewal of its exemption authority to engage in: (i) Scheduled foreign air transportation of persons, property and mail from points behind Canada via Canada and intermediate points to a point or points in theUnited States and beyond; (ii) charter foreign air transportation between any point or points in Canada and any point or points in the United States and beyond, provided that, except with respect to cargo charters, such service constitutes part of a continuous operation, with or without a change of aircraft, that includes service to Canada for the purpose of carrying local traffic between Canada and the United States; and (iii) other charters.WestJet further requests issuance of a foreign air carrier permit to enable WestJet to engage in the same foreign air transportation described above.

Renee V. Wright,
Program Manager, Docket Operations, Federal Register Liaison.

[FR Doc. 2011-32772 Filed 12-21-11; 8:45 am]

BILLING CODE 4910-9X-P